RAILROAD RETIREMENT BOARD

Privacy Act of 1974; Proposed Changes to Systems of Records

AGENCY: Railroad Retirement Board.

ACTION: Notice of proposed new system of records.

SUMMARY: The purpose of this document is to give notice of a proposed new Privacy Act system of records, RRB-50, Child Care Tuition Assistance Program.

DATES: The proposes new system of records shall become effective as proposed without further notice in 40 calendar days from the date of this publication unless comments are received before this date which would result in a contrary determination.

ADDRESSES: Send comments to Beatrice Ezerski, Secretary to the Board, Railroad Retirement Board, 844 North Rush Street, Chicago, Illinois 60611-2092.

FOR FURTHER INFORMATION CONTACT: LeRoy Blommaert, Privacy Act Officer, Railroad Retirement Board, 844 North Rush Street, Chicago, Illinois 60611-2092, (312) 751-4548.

SUPPLEMENTARY INFORMATION: Public Law 106-58 authorizes Federal agencies to fund out of appropriated funds a child care tuition assistance program for lower income families who pay for qualified child care. The Railroad Retirement Board is establishing a program under which child care tuition assistance would be provided to eligible agency employees.

The Railroad Retirement Board will collect family income data from RRB employees who make application under the RRB Child Care Tuition Assistance Program. The family income data will be used by the RRB to determine eligibility under the program, and if eligibility is determined, to make a further determination as to the amount of monthly tuition assistance that will be made. In addition, the RRB will collect information from the employee's child care provider(s) for verification purposes; e.g. that the provider is fully licensed.

On April 12, 2001, the Railroad Retirement Board filed a new system report for this system with the House Committee on Government Operations, the Senate Committee on Governmental Affairs, and the Office of Management and Budget. This was done to comply with Section 3 of the Privacy Act of 1974 and OMB Circular No. A-130, Appendix I.

By authority of the Board.
Beatrice Ezerski,
Secretary to the Board.

RRB-50

System name:

RRB-50, Child Care Tuition Assistance Program.

System Location:

U.S. Railroad Retirement Board, 844 North Rush Street, Chicago, Illinois 60611-2092.

Categories of Individuals Covered by the System:

Current and former Railroad Retirement Board employees who voluntarily applied for child care tuition assistance, the employee's spouse, the employee's children and their child care providers.

Categories of Records in the System:

Employee (parent) name, Social Security Number, pay grade, home and work numbers, addresses, total family income, spouse employment information, names of children on whose behalf the employee parent is applying for tuition assistance, each applicable child's date of birth, information on child care providers used (including name, address, provider license number and state where issued, tuition cost, and provided tax identification number), and copies of IRS Form 1040 and 1040A for verification purposes. Other records may include the child's social security number, weekly expense, pay statements, records relating to direct deposits, verification of qualification and administration for child care assistance.

Authority for Maintenance of the System:

Pub. L. 106-58, section 643 and E.O. 9397.

Purpose(s):

The purpose of the system is to determine eligibility for, and the amount of, the child care tuition assistance for lower income RRB employees.

Routine Uses of Records Maintained in the System, Including Categories of Users and the Purposes of Such Uses:

a. Records may be released to agency employees on a need to know basis.

b. Relevant records relating to an individual may be disclosed to a congressional office in response to an inquiry from the Congressional office made at the request of that individual.

c. Relevant information may be disclosed to the Office of the President for responding to an individual pursuant to an inquiry from that individual or from a third party in his/her behalf.

d. Relevant records may be disclosed to representatives of the General Services Administration or the National Archives and Records Administration who are conducting records management inspections under the authority of 44 U.S.C. 2904 and 2906.

e. Records may be disclosed in response to a request for discovery or for the appearance or a witness, to the extent that what is disclosed is relevant to the subject matter involved in a pending judicial or administrative proceeding.

f. Records may be disclosed in a proceeding before a court or adjudicative body to the extent that they are relevant and necessary to the proceeding.

g. In the event that material in this system indicates a violation of law, whether civil, criminal, or regulatory in nature, and whether arising by general statute, or by regulation, rule, or order issued pursuant thereto, the relevant records may be disclosed to the appropriate agency, whether Federal, State, local or foreign, charged with the responsibility of investigating or prosecuting such violation or charged with enforcing or implementing the statute, rule, regulation, or order, issued pursuant thereto.

h. Relevant records may be disclosed to respond to a Federal agency's request made in connection with the hiring or retention of an employee, the letting of a contract or issuance of a grant, license or other benefit by the requesting agency, but only to the extent that the information disclosed is relevant and necessary to the requesting agency's decision on the matter.

i. Relevant records may be disclosed to the Office of Personnel Management or the General Accounting Office when the information is required for evaluation of the subsidy program.

j. Records may be disclosed to an expert, consultant, or contractor of RRB (including employees of the contractor) if the RRB decides to contract with a private firm for the implementation of any part of the program.

k. Relevant records may be disclosed to child care providers to verify a covered child's dates of attendance at the provider's facility.

Policies and Practices for Storing, Retrieving, Accessing, Retaining, and Disposing of Records in the System:

Storage:

Paper and computer hard disk, cartridge, and tape.

Retrievability:

Name, Social Security Number.

Safeguards:

When not in use by an authorized person, paper records are stored in lockable cabinets in a building with security cameras and 24-hour security guards. Access to electronic records require the use of restricted passwords.

Retention and disposal:

These records will be maintained permanently until their official retention period is established.

System manager(s) and address:

Director of Human Resources, U.S. Railroad Retirement Board, 844 North Rush Street, Chicago, Illinois 60611-2092.

Notification procedure:

Requests for information regarding an individual's record should be in writing addressed to the Systems Manager identified above, including the full name and social security number of the individual. Before information about any record will be released, the System Manager may require the individual to provide proof of identity or require the requester to furnish an authorization from the individual to permit release of information.

Record Access Procedures:

See Notification section above.

Contesting Record Procedures:

See Notification section above.

Record Source Categories:

Applications for child care tuition assistance submitted voluntarily by RRB employees; forms completed by child care providers.

Systems Exempted From Certain Provisions of the Act:

None.

[FR Doc. 01-10030 Filed 4-23-01; 8:45 am]

BILLING CODE 7905-01-M